DEPARTMENT OF COMMERCE

International Trade Administration

President's Export Council: Meeting of the President's Export Council

AGENCY: International Trade Administration, Department of Commerce.

ACTION: Notice of an open meeting.

SUMMARY: The President's Export Council (Council) will hold a meeting to deliberate on recommendations related to promoting the expansion of U.S. exports. Meeting topics will include the Indo-Pacific Economic Framework for Prosperity and strengthening U.S. leadership in technology and innovation. The final agenda will be posted at least one week in advance of the meeting on the President's Export Council website at https://www.trade.gov/presidents-export-council.

DATES: June 29, 2023 at 11:00 a.m. ET.

ADDRESSES: The President's Export Council meeting will be broadcast via live webcast on the internet at https://whitehouse.gov/live.

FOR FURTHER INFORMATION CONTACT: Tricia Van Orden, Designated Federal Officer, President's Export Council, Room 3424, 1401 Constitution Avenue NW, Washington, DC 20230, telephone: 202-482-5876, email: tricia.vanorden@trade.gov.

Press inquiries should be directed to the International Trade Administration's Office of Public Affairs, telephone: 202-482-3809.

SUPPLEMENTARY INFORMATION:

Background: The President's Export Council was first established by Executive Order on December 20, 1973 to advise the President on matters relating to U.S. export trade and to report to the President on its activities and recommendations for expanding U.S. exports. The President's Export Council was renewed most recently by Executive Order 14048 of September 30, 2021, for the two-year period ending September 30, 2023. This Committee is governed in accordance with the provisions of the Federal Advisory Committee Act (FACA), as amended, 5 U.S.C. 1001 et seq.

Public Submissions: The public is invited to submit written statements to the President's Export Council. Statements must be received by 5:00 p.m. ET on June 27, 2023 by the following methods:

a. Electronic Submissions

Submit statements electronically to Tricia Van Orden, Designated Federal Officer, President's Export Council via email: tricia.vanorden@trade.gov.

b. Paper Submissions

Send paper statements to Tricia Van Orden, Designated Federal Officer, President's Export Council, Room 3424, 1401 Constitution Avenue NW, Washington, DC 20230.

Statements will be posted on the President's Export Council website (https://www.trade.gov/presidents-export-council) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: June 12, 2023.
Tricia Van Orden,
Designated Federal Officer, President's Export Council.

[FR Doc. 2023-12780 Filed 6-14-23; 8:45 am]

BILLING CODE 3510-25-P